DEPARTMENT OF DEFENSE

Office of the Secretary

[Docket ID: DoD-2021-OS-0046]

Proposed Collection; Comment Request

AGENCY: The Under Secretary of Defense for Acquisition and Sustainment, Department of Defense (DoD).

ACTION: Information collection notice.

SUMMARY: In compliance with the Paperwork Reduction Act of 1995, the Deputy Assistant Secretary of Defense for Housing announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 13, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Deputy Assistant Secretary of Defense for Sustainment, 3400 Defense Pentagon Room 5C646, Washington, DC 20301-3400; ATTN: Mr. Rodney Graham, or call 719-331-3926.

SUPPLEMENTARY INFORMATION: Title; Associated Form; and OMB Number: Application for Homeowners Assistance; DD Form 1607; OMB Control Number 0704-0463.

Needs and Uses: In accordance with Section 3374 of title 42, United States Code; the American Recovery and Reinvestment Act of 2009 (ARRA); the 32 Code of Federal Regulations (CFR), Part 239 of November 16, 2010; and DoD Directive 4165.50E, “Homeowners Assistance Program (HAP)”, the Department of Defense (DoD) provides funds to financially compensate eligible military and civilian federal employee homeowners, and eligible homeowners who are surviving spouses of fallen warriors, when the real estate market is adversely affected in direct relation to an installation event. The ARRA expanded the HAP to: Wounded, members of the Armed Forces with a 30 percent or greater disability, surviving spouses of fallen warriors, and wounded DoD civilian homeowners reassigned in furtherance of medical treatment or rehabilitation or due to medical retirement in connection with their disability. DoD will also provide financial assistance to offset financial losses of homeowners who need to sell their homes in conjunction with installation events, combat injuries, or loss of spouse in the line of duty. Priority access to the funds goes to surviving spouses of those killed during deployment and those who were wounded, injured, or ill during deployment on or after September 11, 2001. The Under Secretary of Defense for Acquisition and Sustainment has overall responsibility and provides oversight for this program through the Deputy Assistant Secretary of Defense for Housing. The Army, acting as the DoD executive agent for administering the HAP, uses the Headquarters, U.S. Army Corps of Engineers (USACE) to implement the program. HAP applicants use DD Form 1607, “Application for Homeowner's Assistance,” to apply for HAP benefits.

Affected Public: Individuals and households.

Annual Burden Hours: 60.

Number of Respondents: 15.

Responses per Respondent: 1.

Annual Responses: 15.

Average Burden per Response: 4 hours.

Frequency: On Occasion.

Applicants most often complete the form with the assistance of a representative of the Family Housing Office. After it has been filled out, the form is then emailed, faxed, hand-carried, or—in rare cases—mailed to the district HAP office for processing. An action officer in the district HAP office processes the form to ensure all of the necessary information has been provided. If necessary, the applicant is provided with the appropriate instructions for the necessary supplemental information. When the case file is deemed complete by the action officer, it is provided to a counselor for approval or rejection recommendation based on program criteria related to economic impact, service requirements, the applicant's homeowner status, the applicant's primary residence status, and other assistance received by the homeowner. A formal response regarding eligibility or appeal status is provided to the applicant via mail.

Dated: June 8, 2021.
Aaron T. Siegel,
Alternate OSD Federal Register Liaison Officer, Department of Defense.

[FR Doc. 2021-12448 Filed 6-11-21; 8:45 am]

BILLING CODE 5001-06-P